DEPARTMENT OF AGRICULTURE

Food Safety and Inspection Service

[Docket No. FSIS-2006-0023]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA) and the Food and Drug Administration (FDA), U.S. Department of Health and Human Services are sponsoring a public meeting on September 12, 2006. The objective of the public meeting is to provide information and receive public comments on agenda items and draft United States positions that will be discussed at the 28th Session of the Codex Committee on Nutrition and Foods for Special Dietary Uses (CCNFSDU) of the Codex Alimentarius Commission (Codex), which will be held in Chiang Mai, Thailand on October 30-November 3, 2006. The Under Secretary for Food Safety and FDA recognize the importance of providing interested parties with the opportunity to obtain background information on the 28th Session of the CCNFSDU and to address items on the agenda.

DATES: The public meeting is scheduled for Tuesday, September 12, 2006 from 1 p.m. to 4 p.m.

ADDRESSES: The public meeting will be held in the Auditorium (1A003), Food and Drug Administration, Harvey Wiley Federal Building, 5100 Paint Branch Parkway, College Park, MD. Parking is adjacent to this building and will be available at no charge to individuals who pre-register by the date below (See Pre-Registration). In addition, the College Park metro station is across the street. Codex documents related to the 28th Session of the CCNFSDU will be accessible via the World Wide Web at the following address: http://www.codexalimentarius.net/current.asp.

The Food Safety and Inspection Service (FSIS) invites interested persons to submit comments on this notice. Comments may be submitted by any of the following methods:

• Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0023 to submit or view public comments and to view supporting and related materials available electronically.

• Mail, including floppy disks or CD-ROM's, and hand- or courier-delivered items: Send to FSIS Docket Room, Docket Clerk, USDA, FSIS, 300 12th Street, SW., Room 102, Cotton Annex Building, Washington, DC 20250.

Electronic mail: fsis.regulationscomments@fsis.usda.gov.

All submissions received must include the Agency name and docket number FSIS-2006-0023.

• All comments submitted in response to this notice, as well as research and background information used by FSIS in developing this document, will be posted to the regulations.gov Web site. The background information and comments will be available for public inspection in the FSIS Docket Room at the address listed above between 8:30 a.m. and 4:30 p.m., Monday through Friday.

• In addition to submitting comments by mail to the above address, the U.S. Delegate to the CCNFSDU, Dr. Barbara Schneeman of the Food and Drug Administration, invites U.S. interested parties to submit their comments electronically to the following e-mail address: CCNFSDU@cfsan.fda.gov.

Pre-Registration: To gain admittance to this meeting, individuals must present a photo ID for identification and also are required to pre-register. In addition, no cameras or videotaping equipment will be permitted in the meeting room. To pre-register, please send the following information to this e-mail address—nancy.crane@fda.hhs.gov by September 5, 2006:

—Your name

—Organization

—Mailing address

—Phone number

—E-mail address

For Further Information About The 28th Session Of The CCNFSDU Contact: Nancy Crane, Assistant to the U.S. Delegate to the CCNFSDU, Office of Nutritional Products, Labeling and Dietary Supplements, Center for Food Safety and Applied Nutrition, FDA, 5100 Paint Branch Parkway (HFS-800), College Park, MD 20740; Phone: (301) 436-1450; Fax: (301) 436-2636. E-mail: nancy.crane@fda.hhs.gov.

For Further Information About The Public Meeting Contact: Ellen Matten, International Issues Analyst, U.S. Codex Office, USDA, FSIS, Room 4861, South Building, 1400 Independence Avenue, SW., Washington, DC 20250; Phone: (202) 205-7760; Fax: (202) 720-3157.

SUPPLEMENTARY INFORMATION:

Background

The Codex Alimentarius Commission (Codex) was established in 1963 by two United Nations organizations, the Food and Agriculture Organization and the World Health Organization. Codex is the major international organization for encouraging fair international trade in food and protecting the health and economic interests of consumers. Through adoption of food standards, codes of practice, and other guidelines developed by its committees, and by promoting their adoption and implementation by governments, Codex seeks to protect the health of consumers and ensure fair practices in trade.

The Codex Committee on Nutrition and Foods for Special Dietary Uses (CCNFSDU) was established to study specific nutritional problems assigned to it by Codex and advise Codex on general nutritional issues; to draft general provisions, as appropriate, concerning the nutritional aspects of all foods; to develop standards, guidelines or related texts for foods for special dietary uses, in cooperation with other committees when necessary; and to consider, amend if necessary, and endorse provisions on nutritional aspects proposed for inclusion in Codex Standards, guidelines and related texts. The CCNFSDU is hosted by the Federal Republic of Germany.

Issues To Be Discussed at the Public Meeting

The following items on the Agenda for the 28th Session of the CCNFSDU will be discussed during the public meeting:

• Matters referred to the Committee from other Codex bodies.

• Guidelines for Use of Nutrition Claims: Draft Table of Conditions for Nutrient Contents: (Part B, containing provisions on Dietary Fibre).

• Draft Revised Standard for Infant Formula and Formulas for Special Medical Purposes Intended for Infants;

—Section A: Draft Revised Standard for Infant Formula

—Section B: Formulas for Special Medical Purposes Intended for Infants

—Proposals of the Working Group for the Section on Food Additives (for Sections A and B).

• Draft Revised Standard for Gluten-Free Foods.

• Proposed Draft Revision of the Advisory List of Nutrient Compounds for Use in Foods for Special Dietary Uses Intended for the Use by Infants and Young Children.

• Proposed Draft Recommendations on the Scientific Basis of Health Claims.

• Discussion Paper on the Proposals for Additional or Revised Nutrient Reference Values for Labelling Purposes.

• Discussion Paper on the Application of Risk Analysis to the Work of the CCNFSDU.

Each issue listed will be fully described in documents distributed, or to be distributed, by the German Secretariat prior to the CCNFSDU. Members of the public may access copies of these documents via the World Wide Web at the following address: http://www.codexalimentarius.net/current.asp.

Public Meeting

At the September 12 public meeting, draft U.S. positions on these agenda items will be described, discussed, and attendees will have the opportunity to pose questions and offer comments. Written comments may be offered at the meeting or sent to the U.S. Delegate for the 28th Session of the CCNFSDU, Dr. Barbara Schneeman at CCNFSDU@cfsan.fda.gov. Written comments should state that they relate to activities of the 28th Session of the CCNFSDU.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS will also make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professional and other individuals who have asked to be included. The update is available on the FSIS Web page. Through the Listserv and web page, FSIS is able to provide information to a much broader and more diverse audience. In addition, FSIS offers an e-mail subscription service which provides automatic and customized access to selected food safety news and information. This service is available at http://www.fsis.usda.gov/news_and_events/e-mail_subscription/. Options range from recalls to export information to regulations, directives and notices. Customers can add or delete subscriptions themselves and have the option to password protect their account.

Done at Washington, DC on August 17, 2006.
F. Edward Scarbrough,
U.S. Manager for Codex Alimentarius.

[FR Doc. E6-13851 Filed 8-21-06; 8:45 am]

BILLING CODE 3410-DM-P